DEPARTMENT OF ENERGY

Office of Energy Efficiency and Renewable Energy

[Case No. CAC-032]

Petition for Waiver From LG Electronics, Inc. and Granting of the Interim Waiver From Commercial Package Air Conditioner and Heat Pump Test Procedures

AGENCY: Office of Energy Efficiency and Renewable Energy, Department of Energy.

ACTION: Notice of petition for waiver, granting of application for interim waiver, and request for comments.

SUMMARY: This notice announces receipt of and publishes a petition for waiver from LG Electronics, Inc. (LG). The petition for waiver (hereafter “petition”) requests a waiver from the U.S. Department of Energy (DOE) test procedure applicable to commercial package air-source and water-source central air conditioners and heat pumps. The petition is specific to the variable capacity Multi V SYNC II and Multi V Water II (commercial) multi-split heat pump models specified in LG's petition. Through this document, DOE: (1) Solicits comments, data, and information with respect to the LG petition; and (2) announces the grant of an interim waiver to LG from the existing DOE test procedure for the subject commercial multi-split air conditioners and heat pumps.

DATES: DOE will accept comments, data, and information with respect to the LG petition until, but no later than June 22, 2011.

ADDRESSES: You may submit comments, identified by case number “CAC-032,” by any of the following methods:

• Federal eRulemaking Portal: http://www.regulations.gov. Follow the instructions for submitting comments.

• E-mail: AS_Waiver_Requests@ee.doe.gov. Include the case number [CAC-032] in the subject line of the message.

• Mail: Ms. Brenda Edwards, U.S. Department of Energy, Building Technologies Program, Mailstop EE-2J/1000 Independence Avenue, SW., Washington, DC 20585-0121. Telephone: (202) 586-2945. Please submit one signed original paper copy.

• Hand Delivery/Courier: Ms. Brenda Edwards, U.S. Department of Energy, Building Technologies Program, 950 L'Enfant Plaza, SW., Suite 600, Washington, DC 20024. Please submit one signed original paper copy.

Docket: For access to the docket to review the background documents relevant to this matter, you may visit the U.S. Department of Energy, 950 L'Enfant Plaza, SW., Washington, DC, 20024; (202) 586-2945, between 9 a.m. and 4 p.m., Monday through Friday, except on Federal holidays. Available documents include the following items: (1) This notice; (2) public comments received; (3) the petition for waiver and application for interim waiver; and (4) prior DOE rulemakings and waivers regarding similar central air conditioning and heat pump equipment. Please call Ms. Brenda Edwards at the above telephone number for additional information.

FOR FURTHER INFORMATION CONTACT: Dr. Michael G. Raymond, U.S. Department of Energy, Building Technologies Program, Mail Stop EE-2J, Forrestal Building, 1000 Independence Avenue, SW., Washington, DC 20585-0121. Telephone: (202) 586-9611. E-mail: AS_Waiver_Requests@ee.doe.gov.

Ms. Elizabeth Kohl, U.S. Department of Energy, Office of the General Counsel, Mail Stop GC-71, Forrestal Building, 1000 Independence Avenue, SW., Washington, DC 20585-0103. Telephone: (202) 586-7796. E-mail: mailto: Elizabeth.Kohl@hq.doe.gov.

SUPPLEMENTARY INFORMATION:

I. Background and Authority

Title III of the Energy Policy and Conservation Act (EPCA) sets forth a variety of provisions concerning energy efficiency, including Part B of Title III, which establishes the “Energy Conservation Program for Consumer Products Other Than Automobiles.” (42 U.S.C. 6291-6309) part C of Title III provides for a similar energy efficiency program titled “Certain Industrial Equipment,” which includes commercial air conditioning equipment, package boilers, water heaters, and other types of commercial equipment.¹ (42 U.S.C. 6311-6317)

¹ For editorial reasons, upon codification in the U.S. Code, parts B and C were re-designated parts A and A-1, respectively.

Today's notice involves commercial equipment under part C. Part C specifically includes definitions (42 U.S.C. 6311), test procedures (42 U.S.C. 6314), labeling provisions (42 U.S.C. 6315), energy conservation standards (42 U.S.C. 6313), and the authority to require information and reports from manufacturers (42 U.S.C. 6316). With respect to test procedures, part C authorizes the Secretary of Energy (the Secretary) to prescribe test procedures that are reasonably designed to produce results that measure energy efficiency, energy use, and estimated annual operating costs, and that are not unduly burdensome to conduct. (42 U.S.C. 6314(a)(2))

For commercial package air-conditioning and heating equipment, EPCA provides that “the test procedures shall be those generally accepted industry testing procedures or rating procedures developed or recognized by the Air-Conditioning and Refrigeration Institute [ARI] or by the American Society of Heating, Refrigerating and Air-Conditioning Engineers [ASHRAE], as referenced in ASHRAE/IES Standard 90.1 and in effect on June 30, 1992.” (42 U.S.C. 6314(a)(4)(A)) Under 42 U.S.C. 6314(a)(4)(B), if the industry test procedure for commercial package air-conditioning and heating equipment is amended, EPCA directs the Secretary to amend the corresponding DOE test procedure unless the Secretary determines, by rule and based on clear and convincing evidence, that such a modified test procedure does not meet the statutory criteria set forth in 42 U.S.C. 6314(a)(2) and (3).

On December 8, 2006, DOE published a final rule adopting test procedures for commercial package air-conditioning and heating equipment, effective January 8, 2007. 71 FR 71340. Table 1 to Title 10 of the Code of Federal Regulations (10 CFR) 431.96 directs manufacturers of commercial package air conditioning and heating equipment to use the appropriate procedure when measuring energy efficiency of those products. For small commercial packaged air conditioning and heating water-source heat pumps with capacities less than 135,000 Btu/h, ISO Standard 13256-1 (1998) is the applicable test procedure. For commercial package air-source equipment with capacities between 65,000 and 760,000 Btu/h, ARI Standard 340/360-2004 is the applicable test procedure.

DOE's regulations for covered products permit a person to seek a waiver from the test procedure requirements for covered commercial equipment if at least one of the following conditions is met: (1) The petitioner's basic model contains one or more design characteristics that prevent testing according to the prescribed test procedures; or (2) the prescribed test procedures may evaluate the basic model in a manner so unrepresentative of its true energy consumption as to provide materially inaccurate comparative data. 10 CFR 431.401(a)(1). Petitioners must include in their petition any alternate test procedures known to the petitioner to evaluate the basic model in a manner representative of its energy consumption. 10 CFR 431.401(b)(1)(iii). The Assistant Secretary for Energy Efficiency and Renewable Energy (Assistant Secretary) may grant a waiver subject to conditions, including adherence to alternate test procedures. 10 CFR 431.401(f)(4). Waivers remain in effect pursuant to the provisions of 10 CFR 431.401(g).

The waiver process also permits parties submitting a petition for waiver to file an application for interim waiver of the applicable test procedure requirements. 10 CFR 431.401(a)(2). The Assistant Secretary will grant an interim waiver request if it is determined that the applicant will experience economic hardship if the application for interim waiver is denied, if it appears likely that the petition for waiver will be granted, and/or the Assistant Secretary determines that it would be desirable for public policy reasons to grant immediate relief pending a determination on the petition for waiver. 10 CFR 431.401(e)(3). An interim waiver remains in effect for 180 days or until DOE issues its determination on the petition for waiver, whichever occurs first. It may be extended by DOE for an additional 180 days. 10 CFR 431.401(e)(4).

II. Petition for Waiver

On April 8, 2011, LG filed a petition for waiver from the test procedures at 10 CFR 431.96 applicable to commercial package air-source and water-source central air conditioners and heat pumps, as well as an application for interim waiver. LG's petition requested a waiver for the LG Multi V SYNC II multi-split heat pumps with capacities range from 76,400 Btu/h to 310,000 Btu/h. The applicable test procedure for these air-source heat pumps is ARI 340/360-2004. LG's petition also requested a waiver for the LG Multi V Water II water-source products with capacities ranging from 72,000 Btu/h to 573,400 Btu/h. The applicable test procedure for these products with capacities less than 135,000 Btu/h is ISO Standard 13256-1 (1998). The LG water-source products with capacities greater than or equal to 135,000 Btu/h are not covered by this waiver because the DOE test procedure only covers water-source heat pumps with capacities less than 135,000 Btu/h. Manufacturers are directed to use these test procedures pursuant to Table 1 of 10 CFR 431.96.

LG seeks a waiver from the applicable test procedures under 10 CFR 431.96 on the grounds that its Multi V SYNC II and Multi V Water II multi-split heat pumps contain design characteristics that prevent testing according to the current DOE test procedures. Specifically, LG asserts that the two primary factors that prevent testing of its Multi V SYNC II and Multi V Water II multi-split variable speed products are the same factors stated in the waivers that DOE granted to Mitsubishi Electric & Electronics USA, Inc. (Mitsubishi) and other manufacturers for similar lines of commercial multi-split air-conditioning systems:

• Testing laboratories cannot test products with so many indoor units; and

• There are too many possible combinations of indoor and outdoor units to test.

See, e.g., 72 FR 17528 (April 9, 2007) (Mitsubishi); 76 FR 19069 (April 6, 2011) (Daikin); 76 FR 19078 (April 6, 2011) (Mitsubishi).

The Multi V SYNC II and Multi V Water II systems have operational characteristics similar to the commercial multi-split products manufactured by Mitsubishi, Samsung, Sanyo, Fujitsu and Daikin. As indicated above, DOE has already granted waivers for these products. The Multi V SYNC II and Multi V Water II system consists of multiple indoor units connected to an air-cooled outdoor unit. These multi-splits are used in zoned systems where an outdoor or water-source unit can be connected with up to 16-64 separate indoor units, which need not be the same models. According to LG, the various indoor and outdoor models can be connected in a multitude of configurations, with many thousands of possible combinations. Consequently, LG requested that DOE grant a waiver from the applicable test procedures for its Multi V SYNC II and Multi V Water II product designs until a suitable test method can be prescribed.

III. Application for Interim Waiver

On April 8, 2011, LG also submitted an application for an interim waiver from the test procedures at 10 CFR 431.96 for its Multi V SYNC II and Multi V Water II equipment. DOE determined that LG's application for interim waiver does not provide sufficient market, equipment price, shipments, and other manufacturer impact information to permit DOE to evaluate the economic hardship LG might experience absent a favorable determination on its application for an interim waiver. DOE understands, however, that if it did not issue an interim waiver, LG's products would not be tested and rated for energy consumption in the same manner as equivalent products for which DOE previously granted waivers. Furthermore, DOE has determined that it appears likely that LG's petition for waiver will be granted and that is desirable for public policy reasons to grant LG immediate relief pending a determination on the petition for waiver. DOE believes that it is likely LG's petition for waiver for the new Multi V SYNC II and Multi V Water II multi-split models will be granted because, as noted above, DOE has previously granted a number of waivers for similar product designs. The two principal reasons supporting the grant of the previous waivers also apply to LG's Multi V SYNC II and Multi V Water II products: (1) Test laboratories cannot test products with so many indoor units; and (2) it is impractical to test so many combinations of indoor units with each outdoor unit. In addition, DOE believes that similar products should be tested and rated for energy consumption on a comparable basis. For these same reasons, DOE also determined that it is desirable for public policy reasons to grant immediate relief pending a determination on the petition for waiver.

Therefore, it is ordered that:

The application for interim waiver filed by LG is hereby granted for LG's Multi V SYNC II and Multi V Water II multi-split heat pumps, subject to the specifications and conditions below.

1. LG shall not be required to test or rate its Multi V SYNC II and Multi V Water II commercial multi-split products on the basis of the existing test procedures under 10 CFR 431.96, which incorporates by reference ARI 340/360-2004 (SYNC II) and ISO Standard 13256-1 (1998) (Water II).

2. LG shall be required to test and rate its Multi V SYNC II and Multi V Water II commercial multi-split products according to the alternate test procedure as set forth in section IV(3), “Alternate test procedure.”

The interim waiver applies to the following basic model groups:

Multi V Series Air-Source Heat Pumps Heat Recovery Units

SYNC II 3Ø 460V 60 Hz models: ARUB076DT2, ARUB096DT2, ARUB115DT2, ARUB134DT2, ARUB154DT2, ARUB173DT2, ARUB192DT2, ARUB211DT2, ARUB230DT2, ARUB250DT2, ARUB270DT2, ARUB290DT2, ARUB310DT2, with normally rated cooling capacities of 76,400, 95,900, 114,700, 133,800, 152,900, 172,000, 191,100, 211,000, 230,000, 250,000, 270,000, 290,000, and 310,000 Btu/h respectively. The maximum number of connectable indoor units is 13, 16, 20, 23, 26, 29, 32, 35, 39, 42, 49, and 52 respectively.

Multi V Series Water-Source Heat Pumps Water-Source Units

Water II 3Ø 460V 60 Hz model: ARWN096DA2 with nominally rated cooling capacity of 95,900 Btu/h. The maximum number of connectable indoor units is 16.

Water II 3Ø 208/230V 60 Hz model: ARWN072BA2 with nominally rated cooling capacity of 72,000 Btu/h. The maximum number of connectable indoor units is 16.

Water II Heat Recovery 3Ø 208/230V 60 Hz model: ARWB072BA2 with nominally rated cooling capacity of 72,000 Btu/h. The maximum number of connectable indoor units is 16.

Water II Heat Recovery 3Ø 460V 60 Hz model: ARWB096DA2 with nominally rated cooling capacity of 95,900 Btu/h. The maximum number of connectable indoor units is 16.

Compatible Indoor Units for the Above-Listed Air-Source and Water-Source Units

Wall Mounted: ARNU073SEL2, ARNU093SEL2, ARNU123SEL2, ARNU153SEL2, ARNU183S5L2, and ARNU243S5L2, with nominally rated cooling capacities of 7,500, 9,600, 12,300, 15,400, 19,100, and 24,200 Btu/h respectively.

Art Cool Mirror: ARNU073SE*2, ARNU093SE*2, ARNU123SE*2, ARNU153SE*2, ARNU183S3*2, and ARNU243S3*2, with nominally rated cooling capacities of 7,500, 9,600, 12,300, 15,400, 19,100, and 24,200 Btu/h respectively.

4 Way Cassette: ARNU073TEC2, ARNU093TEC2, ARNU123TEC2, ARNU153TEC2, ARNU183TEC2, ARNU243TPC2, ARNU283TPC2, ARNU363TNC2, ARNU423TMC2, and ARNU483TMC2, with nominally rated cooling capacities of 7,500, 9,600, 12,300, 15,400, 19,100, 24,200, 28,000, 36,200, 42,000, and 48,100 Btu/h respectively.

2 Way Cassette: ARNU183TLC2 and ARNU243TLC2, with nominally rated capacities of 19,100 and 24,200 Btu/h respectively.

1 Way Cassette: ARNU073TJC2, ARNU093TJC2, and ARNU123TJC2, with nominally rated capacities of 7,500, 9,600, and 12,300 Btu/h respectively.

Ceiling Concealed Duct—Low Static: ARNU073B1G2, RNU093B1G2, ARNU123B1G2, ARNU153B1G2,ARNU183B2G2, and ARNU243B2G2, with nominally rated capacities of 7,500, 9,600, 12,300, 15,400, 19,100, and 24,200 Btu/h respectively.

Ceiling Concealed Duct—Built-in: ARNU073B3G2, ARNU093B3G2, ARNU123B3G2, ARNU153B3G2, ARNU183B4G2, and ARNU243B4G2, with nominally rated capacities of 7,500, 9,600, 12,300, 15,400, 19,100, and 24,200 Btu/h respectively.

Ceiling Concealed Duct—High Static: ARNU073BHA2, ARNU093BHA2, ARNU123BHA2, ARNU153BHA2, ARNU183BHA2, ARNU243BHA2, ARNU283BGA2, ARNU363BGA2, ARNU423BGA2, ARNU483BRA2, URNU763B8A2, and URNU963B8A2, with nominally rated capacities of 7,500, 9,600, 12,300, 15,400, 19,100, 24,200, 28,000, 36,200, 42,000, 48,100, 76,400, and 95,500 Btu/h respectively.

Ceiling & Floor: ARNU093VEA2 and ARNU123VEA2, with nominally rated capacities of 9,600 and 12,300 Btu/h respectively.

Ceiling Suspended: ARNU183VJA2 and ARNU243VJA2, with nominally rated capacities of 19,100 and 24,200 Btu/h respectively.

Floor Standing with Case: ARNU073CEA2, ARNU093CEA2, ARNU123CEA2, ARNU153CEA2, ARNU183CFA2, and ARNU243CFA2, with nominally rated capacities of 7,500, 9,600, 12,300, 15,400, 19,100, and 24,200 Btu/h respectively.

Floor Standing without Case: ARNU073CEU2, ARNU093CEU2, ARNU123CEU2, ARNU153CEU2, ARNU183CFU2, and ARNU243CFU2, with nominally rated capacities of 7,500, 9,600, 12,300, 15,400, 19,100, and 24,200 Btu/h respectively.

Vertical Air Handler: ARNU183NJA2, ARNU243NJA2, ARNU303NJA2, ARNU363NJA2, ARNU423NKA2, ARNU483NKA2, and ARNU543NKA2, with nominally rated capacities of 18,000, 24,000, 30,000, 36,000, 42,100, 48,000 and 54,000 Btu/h respectively.

This interim waiver is issued on the condition that the statements, representations, and documents provided by the petitioner are valid. DOE may revoke or modify this interim waiver at any time if it determines the factual basis underlying the petition for waiver is incorrect or the results from the alternate test procedure are unrepresentative of the basic models' true energy consumption characteristics.

DOE makes decisions on waivers and interim waivers for only those models specifically set out in the petition, not future models that may be manufactured by the petitioner. LG may submit a new or amended petition for waiver and request for grant of interim waiver, as appropriate, for additional models of commercial package air conditioners and heat pumps for which it seeks a waiver from the DOE test procedure. In addition, DOE notes that grant of an interim waiver or waiver does not release a petitioner from the certification requirements set forth at 10 CFR part 429.

IV. Alternate Test Procedure

In responses to two petitions for waiver from Mitsubishi, DOE specified an alternate test procedure to provide a basis from which Mitsubishi could test and make valid energy efficiency representations for its R410A CITY MULTI products, as well as for its R22 multi-split products. Alternate test procedures related to the Mitsubishi petitions were published in the Federal Register on April 9, 2007. See 72 FR 17528 and 72 FR 17533. For reasons similar to those published in these prior notices, DOE believes that an alternate test procedure is appropriate in this instance.

DOE understands that existing testing facilities have limited ability to test multiple indoor units simultaneously. This limitation makes it impractical for manufacturers to test the large number of possible combinations of indoor and outdoor units for some variable refrigerant flow zoned systems. We further note that after DOE granted a waiver for Mitsubishi's R22 multi-split products, ARI formed a committee to discuss testing issues and to develop a testing protocol for variable refrigerant flow systems. The committee has developed a test procedure which has been adopted by AHRI—“ANSI/AHRI 1230—2010: Performance Rating of Variable Refrigerant Flow (VRF) Multi-Split Air-Conditioning and Heat Pump Equipment” and incorporated into ASHRAE 90.1—2010. The commercial multisplit waivers that DOE has granted to Mitsubishi and several other manufacturers and the alternate test procedure set forth in those waivers are consistent with ANSI/AHRI 1230-2010. The waivers use a definition of “tested combination” that is substantially the same as the definition in ANSI/AHRI 1230-2010. As a result, DOE is considering prescribing ANSI/AHRI 1230-2010 in the subsequent decision and order as the alternate test procedure for this LG waiver. For the interim waiver, however, DOE will continue to require the use of the alternate test procedure prescribed in previous multisplit waivers.

Therefore, as a condition for granting this interim waiver to LG, DOE is including an alternate test procedure similar to those granted to Mitsubishi for its R22 and R410A products. This alternate test procedure will allow LG to test and make energy efficiency representations for its Multi V SYNC II and Multi V Water II products. DOE has applied a similar alternate test procedure to other waivers for similar residential and commercial central air conditioners and heat pumps manufactured by Mitsubishi (72 FR 17528, April 9, 2007); Samsung (72 FR 71387, Dec. 17, 2007); Fujitsu (72 FR 71383, Dec. 17, 2007); Daikin (73 FR 39680, July 10, 2008); Daikin (74 FR 15955, April 8, 2009); Daikin (74 FR 16193, April 9, 2009); Daikin (74 FR 16373, April 10, 2009); Mitsubishi (74 FR 66311, 66315, December 15, 2009) and LG (74 FR 66330, December 15, 2009).

The alternate test procedure developed in conjunction with the Mitsubishi waiver permits LG to designate a “tested combination” for each model of outdoor unit. The indoor units designated as part of the tested combination must meet specific requirements. For example, the tested combination must have from two to eight indoor units so that it can be tested in available test facilities. (The “tested combination” was originally defined to consist of one outdoor unit matched with between 2 and 5 indoor units. The maximum number of indoor units in a tested combination is increased in this instance from 5 to 8 to account for the fact that these larger-capacity products can accommodate a greater number of indoor units.) The tested combination must be tested according to the applicable DOE test procedure, as modified by the provisions of the alternate test procedure as set forth below. The alternate test procedure also allows manufacturers of such products to make valid and consistent representations of energy efficiency for their air-conditioning and heat pump products.

DOE is including the following waiver language in the interim waiver for LG's Multi V SYNC II and Multi V Water II commercial multi-split water-source heat pump models:

(1) The petition for waiver filed by LG Corporation is hereby granted as set forth in the paragraphs below.

(2) LG shall not be required to use existing test procedures to test or rate its Multi V SYNC II and Multi V Water II variable capacity multi-split heat pump products listed above, but shall be required to test and rate such products according to the alternate test procedure as set forth in paragraph (3).

(3) Alternate test procedure.

(A) LG shall be required to test the products listed in section III above according to the test procedures for central air conditioners and heat pumps prescribed by DOE at 10 CFR 431.96, except that LG shall test a tested combination selected in accordance with the provisions of subparagraph (B) of this paragraph. For every other system combination using the same outdoor unit as the tested combination, LG shall make representations concerning the Multi V SYNC II and Multi V Water II products covered in this waiver according to the provisions of subparagraph (C) below.

(B) Tested combination. The term tested combination means a sample basic model comprised of units that are production units, or are representative of production units, of the basic model being tested. For the purposes of this waiver, the tested combination shall have the following features:

(1) The basic model of a variable refrigerant flow system used as a tested combination shall consist of one outdoor unit, with one or more compressors, that is matched with between two and five indoor units. (For systems with nominal cooling capacities greater than 150,000 Btu/h, as many as eight indoor units may be used, to enable testing of non-ducted indoor unit combinations). For multi-split systems, each of these indoor units shall be designed for individual operation.

(2) The indoor units shall—

(i) Represent the highest sales model family or another indoor model family if the highest sales model family does not provide sufficient capacity (see ii);

(ii) Together, have a nominal cooling capacity that is between 95% and 105% of the nominal cooling capacity of the outdoor unit;

(iii) Not, individually, have a nominal cooling capacity that is greater than 50% of the nominal cooling capacity of the outdoor unit;

(iv) Operate at fan speeds that are consistent with the manufacturer's specifications; and

(v) Be subject to the same minimum external static pressure requirement while being configurable to produce the same static pressure at the exit of each outlet plenum when manifolded as per § 2.4.1 of 10 CFR part 430, subpart B, appendix M.

(C) Representations. In making representations about the energy efficiency of its Multi V SYNC II and Multi V Water II variable capacity multi-split heat pump products for compliance, marketing, or other purposes, LG must fairly disclose the results of testing under the DOE test procedure in a manner consistent with the provisions outlined below:

(1) For Multi V SYNC II and Multi V Water II combinations tested in accordance with this alternate test procedure, LG may make representations based on these test results.

(2) For Multi V SYNC II and Multi V Water II combinations that are not tested, LG may make representations of non-tested combinations at the same energy efficiency level as the tested combination. The outdoor unit must be the one used in the tested combination. The representations must be based on the test results for the tested combination. The representations may also be determined by an Alternative Rating Method approved by DOE.

V. Summary and Request for Comments

Through today's notice, DOE announces receipt of the LG petition for waiver from the test procedures applicable to the Multi V SYNC II and Multi V Water II commercial multi-split heat pump products specified in LG's petition. For the reasons articulated above, DOE also grants LG an interim waiver from those procedures. As part of this notice, DOE is publishing LG's petition for waiver in its entirety. The petition contains no confidential information. Furthermore, today's notice includes an alternate test procedure that LG is required to follow as a condition of its interim waiver. In this alternate test procedure, DOE is defining a tested combination that LG could use in lieu of testing all retail combinations of its Multi V SYNC II and Multi V Water II multi-split heat pump products.

DOE is interested in receiving comments on the issues addressed in this notice. Pursuant to 10 CFR 431.401(d), any person submitting written comments must also send a copy of such comments to the petitioner, pursuant to 10 CFR 431.401(d). The contact information for the petitioner is: John I. Taylor, Vice President, Government Relations and Communications, LG Electronics USA, Inc., 1776 K Street NW., Washington, DC 20006. All submissions received must include the agency name and case number for this proceeding. Submit electronic comments in WordPerfect, Microsoft Word, Portable Document Format (PDF), or text (American Standard Code for Information Interchange (ASCII)) file format and avoid the use of special characters or any form of encryption. Wherever possible, include the electronic signature of the author. DOE does not accept telefacsimiles (faxes).

According to 10 CFR 1004.11, any person submitting information that he or she believes to be confidential and exempt by law from public disclosure should submit two copies: one copy of the document including all the information believed to be confidential, and one copy of the document with the information believed to be confidential deleted. DOE will make its own determination about the confidential status of the information and treat it according to its determination.

Issued in Washington, DC, on May 16, 2011.
Kathleen Hogan,
Deputy Assistant Secretary for Energy Efficiency, Office of Technology Development, Energy Efficiency and Renewable Energy.

April 8, 2011.

The Honorable Dr. Henry Kelly, Acting Assistant Secretary and Principal Deputy Assistant Secretary, Energy Efficiency and Renewable Energy, United States Department of Energy, Forrestal Building, 1000 Independence Avenue, S.W., Washington, DC 20585-0121.

Re: Petition for Waiver and Application for Interim Waiver, LG Electronics Multi V Multi-Split Air-Source and Water-Source Heat Pump Systems

Dear Assistant Secretary Kelly: LG Electronics, Inc. (LG) respectfully submits this Petition for Waiver and Application for Interim Waiver, pursuant to 10 CFR 431.401, for certain LG Multi V variable refrigerant flow (VRF) multi-split air-source heat recovery systems, specifically the Multi V SYNC II heat recovery (3Ø 460V 60 Hz), and LG Multi V VRF multi-split water-source heat pump systems, specifically the Multi V Water II and Multi V Water II heat recovery systems listed in Appendix A hereto. This request adds models to the waiver that DOE already granted to LG for Multi V SYNC II and Multi V Water II systems. 74 FR 66330 (Dec. 15, 2009); see also id. 20688 (May 5, 2009) (interim waiver).

Among other things, the applicable DOE test procedure does not provide a method for testing and rating a system that utilizes so many indoor units; the applicable test procedure does not provide a method for rating systems where the type and capacity of the indoor unit can be mixed in the same system; and no testing laboratories can test products with so many indoor units. See, e.g., 75 FR 41845, 41848 (July 19, 2010) (existing testing facilities “have a limited ability to test multiple indoor units simultaneously,” and “it is impractical to test some variable refrigerant flow zoned systems”).

Waiver relief has been granted for many other comparable commercial multi-splits, including LG, Mitsubishi, Samsung, Fujitsu, Sanyo, and Daikin. See 69 FR 52660 (Aug. 27, 2004) (Mitsubishi); 70 FR 9629 (Feb. 28, 2005) (Samsung); 71 FR 14858 (March 24, 2006) (Mitsubishi); 72 FR 17528 (April 9, 2007) (Mitsubishi); id. 71387 (Dec. 17, 2007) (Samsung); id. 71383 (Dec. 17, 2007) (Fujitsu); 73 FR 179 (Jan. 2, 2008) (Sanyo); id. 1207, 1213 (Jan. 7, 2008) (Daikin); id. 39680 (July 10, 2008) (Daikin); id. 75408 (Dec. 11, 2008) (Mitsubishi); 74 FR 15955 (April 8, 2009) (Daikin); id. 16373 (April 10, 2009) (Daikin); id. 20688 (May 5, 2009) (LG); id. 66330 (Dec. 15, 2009) (LG); id. 66324 (Dec. 15, 2009) (Daikin); id. 66311, 66315 (Dec. 15, 2009) (Mitsubishi); 75 FR 4795 (Jan. 29, 2010) (Daikin); id. 13114 (March 18, 2010) (Sanyo); id. 22581 (April 29, 2010) (Daikin); id. 25224 (May 7, 2010) (Daikin); id. 41845 (July 19, 2010) (Sanyo); 76 FR 19069 (April 6, 2011) (Daikin); id. 19078 (April 6, 2011) (Mitsubishi). As stated above, LG's current request simply adds additional models to the waiver relief already granted to LG.

LG is a manufacturer of digital appliances, as well as mobile communications, digital displays, and digital media products. Its appliances include air-conditioners, washing machines, clothes dryers, refrigerators, refrigerator-freezers, air cleaners, ovens, microwave ovens, dishwashers, and vacuum cleaners and are sold worldwide, including in the United States. LG's U.S. operations are LG Electronics USA, Inc., with headquarters at 1000 Sylvan Avenue, Englewood Cliffs, NJ 07632 (tel. 201-816-2000). Its worldwide headquarters are located at LG Twin Towers 20, Yoido-dong, Youngdungpo-gu Seoul, Korea 150-721 (tel. 011-82-2-3777-1114) URL: http.www.LGE.com. LG's principal brands include LG® and OEM brands, including GE® and Kenmore®. LG's appliances are produced in Korea and Mexico.

LG's Multi V VRF systems are beneficial products, each consisting of a single outdoor or water source unit, using a scroll type inverter compressor with variable capacity, that can connect to multiple indoor units and that uses VRF and control systems. (In certain high capacity applications [152,900 Btu/h and above], a consumer can choose between a system using a single outdoor or water-source unit and a system using two or three outdoor or water-source units.) These multi-splits are intended to be used in zoned systems where an outdoor or water-source unit can be connected with up to between 16 and 64 separate indoor units, which need not be the same models. The operating characteristics allow each indoor unit to have a different set temperature and a different mode of operation (i.e., on/off/fan). All of the indoor units are capable of operating independently, with their own temperature and fan speed setting. Based on those controls, the outdoor or water-source unit will then determine the cooling or heating capacity delivered into the zones. The system therefore offers great flexibility and convenience to the consumer, permitting precise space conditioning control throughout the building, and thus saving energy. The cooling capacities of the systems are between 72,000 and 573,400 Btu/h.¹

¹ DOE has taken the position that water-source products with capacities greater than or equal to 135,000 Btu/h do not require a waiver because the DOE test procedure only covers water-source heat pumps with capacities less than 135,000 Btu/h. See, e.g., 75 FR 41845, 41846 (July 19, 2010) (Sanyo); id. 22581 (April 29, 2010) (Daikin). While LG believes that it can rely on DOE's position in this regard, it is nonetheless including products with capacities greater than or equal to135,000 Btu/h in this waiver request as a precautionary measure.

The variable speed, constant speed or dual compressors and the associated system controls can direct refrigerant flow throughout the system to precisely meet the various heating or cooling loads required in the conditioned areas. The compressor is capable of reducing its operating capacity to as little as 10 percent of its rated capacity. The outdoor fan motor also has a variable speed drive to properly match the outdoor coil to indoor loads. Zone diversity enables the system to have a total connected indoor unit capacity of up to 130 percent of the capacity of the outdoor or water-source unit.

As discussed above, up to between 16 and 64 indoor units can be matched with each related outdoor or water-source unit. Thus, for each outdoor or water-source unit there is a multitude of possible combinations of indoor units that can be matched in a system configuration. And since there are so many outdoor or water-source units and indoor units, there is an enormous total of possible combinations.

A waiver and interim waiver for the specified LG Multi V VRF systems are warranted because test procedures under the Energy Policy and Conservation Act (EPCA), 42 U.S.C. 6291 et seq., namely 10 CFR 431.96, evaluate the basic models in a manner so unrepresentative of their true energy consumption characteristics as to provide materially inaccurate comparative data, and/or the basic models contain one or more design characteristics that prevent testing of the basic model according to the prescribed test procedures. In such circumstances DOE “will grant” waiver relief. 10 CFR 431.401(e)(3), (f)(4). In that regard:

—The test procedure provides for testing of a pair of indoor and outdoor assemblies making up a typical split system, but does not specify how LG Multi V VRF systems, with so many combinations of indoor units for each outdoor or water-source unit, could be evaluated. The situation is further complicated by the fact that there are so many outdoor or water-source units. It is not practical to test each possible combination, and the test procedure provides no alternative rating method for generating efficiency ratings for systems with more than one indoor unit. Thus, the test procedure does not contemplate, and cannot practically be applied to, LG Multi V VRF systems. DOE has already recognized this by granting waiver relief to LG, and to other manufacturers for comparable systems.

—Testing laboratories cannot test products with so many indoor units. In that regard, the testing of multi-splits when all indoor units are connected cannot be physically located in a single room.

—The test procedure provides for testing “matched assemblies,” which does not apply to LG Multi V VRF systems. Indoor and outdoor coils in split systems are typically balanced; that is, the capacity of the outdoor coil is equivalent to the capacity of the indoor coil. The test procedure's application to “matched assemblies” contemplates such a balance between indoor and outdoor coil capacity. With the Multi V VRF systems, however, the sum of the capacity of the indoor units connected into the system can be as much as 130 percent of the capacity of the outdoor coil. Such unbalanced combinations of LG indoor and outdoor or water-source units are permitted by the zoning characteristics of the system, the use of electronic expansion valves to precisely control refrigerant flow to each indoor coil, and the system intelligence for overall system control. The test procedure designed for “matched assemblies” therefore does not contemplate or address testing for substantially unbalanced zoning systems such as the LG Multi V VRF systems.

—The indoor units are designed to operate at many different external static pressure values, which compounds the difficulty of testing LG Multi V VRF systems. A test facility could not maintain proper airflow at several different external static pressure values for the many indoor units that would be connected to the outdoor unit.

* * * * *

For all of these reasons, the existing test procedures evaluate the LG Multi V VRF systems in a manner so unrepresentative of their true energy consumption characteristics as to provide materially inaccurate comparative data and/or the basic models contain one or more design characteristics that prevent testing of the basic model according to the prescribed test procedures. Therefore, DOE should grant a waiver for the LG Multi V VRF systems set forth in Appendix A. See 10 CFR 431.401(a)(1). The waiver should continue until a test procedure can be developed and adopted that will provide the U.S. market with a fair and accurate assessment of the LG Multi V VRF system energy consumption and efficiency levels. LG intends to work with DOE, stakeholders, and the Air-Conditioning, Heating and Refrigeration Institute (AHRI) to develop the appropriate test procedure.

There are no alternative test procedures known to LG that could evaluate these products in a representative manner (other than perhaps the procedures provided by DOE in its waiver decisions for comparable products).

That a waiver is warranted is borne out by the fact that DOE has granted waiver relief to LG, as well as to Mitsubishi, Samsung, Fujitsu, Sanyo, and Daikin for comparable commercial multi-splits.

Manufacturers of all other basic models marketed in the United States and known to LG to incorporate similar design characteristics as found in the LG Multi V VRF systems include Mitsubishi Electric and Electronics USA, Samsung Air Conditioning, Fujitsu General Limited, SANYO North America Corp., and Daikin AC (Americas), Inc.

LG also requests immediate relief by grant of an interim waiver. Grant of an interim waiver is fully justified:

—The petition for waiver is likely to be granted, as evidenced not only by its merits, but also because DOE has already granted waiver relief to LG, Mitsubishi, Samsung, Fujitsu, Sanyo, and Daikin for their commercial VRF multi-splits. In such instances, it is in the public interest to have similar products tested and rated for energy consumption on a comparable basis.

—Without waiver relief, LG will be at a competitive disadvantage in the market and suffer economic hardship. LG would be placed in an untenable situation: the Multi V VRF systems involved here would be subject to a set of regulations that DOE already acknowledges should not apply to such a product, while at the same time other manufacturers are allowed to operate relieved from such regulations.

—Significant investment has already been made in LG Multi V VRF systems. Lack of relief would not allow LG to recoup this investment as it relates to the models involved here and would deny LG anticipated sales revenue. This does not take into account significant losses in goodwill and brand acceptance.

—The basic purpose of EPCA is to foster purchase of energy-efficient products, not hinder such purchases. LG Multi V VRF systems produce a benefit to consumers and are in the public interest. To encourage and foster the availability of these products is in the public interest. Standards programs should not be used as a means to block innovative, improved designs.² DOE's rules should accommodate and encourage—not act to block—such a product.

² See FTC Advisory Opinion No. 457, TRRP 1718.20 (1971 Transfer Binder); 49 FR 32213 (Aug. 13, 1984); 52 FR 49141, 49147-48 (Dec. 30, 1987).

—Granting the interim waiver and waiver would also eliminate a non-tariff trade barrier.

—Grant of relief would also help enhance economic development and employment, including not only LG Electronics USA's operations in New Jersey, Georgia, Texas, California, Illinois and Alabama, but also at major national retailers and regional dealers that carry LG products. Furthermore, continued employment creation and ongoing investments in its marketing, sales and servicing activities will be fostered by approval of the interim waiver. Conversely, denial of the requested relief would harm the company and would be anticompetitive.

Conclusion

LG respectfully requests that DOE grant a waiver and interim waiver from existing test standards for LG Multi V VRF multi-split systems set forth in Appendix A hereto until such time as a representative test procedure is developed and adopted for such products.

We would be pleased to discuss this request with DOE and provide further information as needed.

We hereby certify that all manufacturers of domestically marketed units of the same product type have been notified by letter of this petition and application, copies of which letters are attached (Appendix B hereto).

Sincerely,

John I. Taylor,

Vice President, Government Relations and Communications, LG Electronics USA, Inc., 1776 K Street NW., Washington, DC 20006, Phone: 202-719-3490, Fax: 847-941-8177, E-mail: john.taylor@lge.com.

Of counsel:

John A. Hodges, Wiley Rein,

LLP, 1776 K Street NW., Washington, DC 20006, Phone: 202-719-7000, Fax: 202-719-7049, E-mail: jhodges@wileyrein.com.

Appendix A—Multi V Series Air-Source Heat Pumps Heat Recovery Units

SYNC II 3Ø 460V 60 Hz models: ARUB076DT2, ARUB096DT2, ARUB115DT2, ARUB134DT2, ARUB154DT2, ARUB173DT2, ARUB192DT2, ARUB211DT2, ARUB230DT2, ARUB250DT2, ARUB270DT2, ARUB290DT2, ARUB310DT2, with normally rated cooling capacities of 76,400, 95,900, 114,700, 133,800, 152,900, 172,000, 191,100, 211,000, 230,000, 250,000, 270,000, 290,000, and 310,000 Btu/h respectively. The maximum number of connectable indoor units is 13, 16, 20, 23, 26, 29, 32, 35, 39, 42, 49, and 52 respectively.

Multi V Series Water-Source Heat Pumps Water-Source Units:

Water II 3Ø 460V 60 Hz models: ARWN096DA2, ARWN192DA2, ARWN290DA2, ARWN390DA2, ARWN480DA2, ARWN580DA2, with nominally rated cooling capacities of 95,900, 191,100, 286,600, 382,200, 477,800, and 573,400 Btu/h respectively. The maximum number of connectable indoor units is 16, 32, 49, 64, 64, and 64 respectively.

Water II 3Ø 208/230V 60 Hz models: ARWN072BA2, ARWN144BA2, ARWN216BA2, ARWN288BA2, ARWN360BA2, ARWN432BA2, with nominally rated cooling capacities of 72,000, 144,000, 216,000, 288,000, 360,000, and 432,000 Btu/h respectively. The maximum number of connectable indoor units is 16, 32, 49, 64, 64, and 64 respectively.

Water II Heat Recovery 3Ø 208/230V 60 Hz models: ARWB072BA2, ARWB144BA2, ARWB216BA2, ARWB288BA2, ARWB360BA2, and ARWB432BA2, with nominally rated cooling capacities of 72,000, 144,000, 216,000, 288,000, 360,000, and 432,000 Btu/h respectively. The maximum number of connectable indoor units is 16, 32, 49, 64, 64, and 64 respectively.

Water II Heat Recovery 3Ø 460V 60 Hz models: ARWB096DA2, ARWB192DA2, ARWB290DA2, ARWB390DA2, ARWB480DA2, and ARWB580DA2, with nominally rated cooling capacities of 95,900, 191,100, 286,600, 382,200, 477,800, and 573,400 Btu/h respectively. The maximum number of connectable indoor units is 16, 32, 49, 64, 64 and 64 respectively.

Compatible indoor units for the above-listed air-source and water-source units:

Wall Mounted: ARNU073SEL2, ARNU093SEL2, ARNU123SEL2, ARNU153SEL2, ARNU183S5L2, and ARNU243S5L2, with nominally rated cooling capacities of 7,500, 9,600, 12,300, 15,400, 19,100, and 24,200 Btu/h respectively.

Art Cool Mirror: ARNU073SE*2, ARNU093SE*2, ARNU123SE*2, ARNU153SE*2, ARNU183S3*2, and ARNU243S3*2, with nominally rated cooling capacities of 7,500, 9,600, 12,300, 15,400, 19,100, and 24,200 Btu/h respectively.

4 Way Cassette: ARNU073TEC2, ARNU093TEC2, ARNU123TEC2, ARNU153TEC2, ARNU183TEC2, ARNU243TPC2, ARNU283TPC2, ARNU363TNC2, ARNU423TMC2, and ARNU483TMC2, with nominally rated cooling capacities of 7,500, 9,600, 12,300, 15,400, 19,100, 24,200, 28,000, 36,200, 42,000, and 48,100 Btu/h respectively.

2 Way Cassette: ARNU183TLC2 and ARNU243TLC2, with nominally rated capacities of 19,100 and 24,200 Btu/h respectively.

1 Way Cassette: ARNU073TJC2, ARNU093TJC2, and ARNU123TJC2, with nominally rated capacities of 7,500, 9,600, and 12,300 Btu/h respectively.

Ceiling Concealed Duct—Low Static: ARNU073B1G2, RNU093B1G2, ARNU123B1G2, ARNU153B1G2, ARNU183B2G2, and ARNU243B2G2, with nominally rated capacities of 7,500, 9,600, 12,300, 15,400, 19,100, and 24,200 Btu/h respectively.

Ceiling Concealed Duct—Built-in: ARNU073B3G2, ARNU093B3G2, ARNU123B3G2, ARNU153B3G2, ARNU183B4G2, and ARNU243B4G2, with nominally rated capacities of 7,500, 9,600, 12,300, 15,400, 19,100, and 24,200 Btu/h respectively.

Ceiling Concealed Duct—High Static: ARNU073BHA2, ARNU093BHA2, ARNU123BHA2, ARNU153BHA2, ARNU183BHA2, ARNU243BHA2, ARNU283BGA2, ARNU363BGA2, ARNU423BGA2, ARNU483BRA2, URNU763B8A2, and URNU963B8A2, with nominally rated capacities of 7,500, 9,600, 12,300, 15,400, 19,100, 24,200, 28,000, 36,200, 42,000, 48,100, 76,400, and 95,500 Btu/h respectively.

Ceiling & Floor: ARNU093VEA2 and ARNU123VEA2, with nominally rated capacities of 9,600 and 12,300 Btu/h respectively.

Ceiling Suspended: ARNU183VJA2 and ARNU243VJA2, with nominally rated capacities of 19,100 and 24,200 Btu/h respectively.

Floor Standing with Case: ARNU073CEA2, ARNU093CEA2, ARNU123CEA2, ARNU153CEA2, ARNU183CFA2, and ARNU243CFA2, with nominally rated capacities of 7,500, 9,600, 12,300, 15,400, 19,100, and 24,200 Btu/h respectively.

Floor Standing without Case: ARNU073CEU2, ARNU093CEU2, ARNU123CEU2, ARNU153CEU2, ARNU183CFU2, and ARNU243CFU2, with nominally rated capacities of 7,500, 9,600, 12,300, 15,400, 19,100, and 24,200 Btu/h respectively.

Vertical Air Handler: ARNU183NJA2, ARNU243NJA2, ARNU303NJA2, ARNU363NJA2, ARNU423NKA2, ARNU483NKA2, and ARNU543NKA2, with nominally rated capacities of 18,000, 24,000, 30,000, 36,000, 42,100, 48,000 and 54,000 Btu/h respectively.

[FR Doc. 2011-12590 Filed 5-20-11; 8:45 am]

BILLING CODE 6450-01-P